DEPARTMENT OF TRANSPORTATION

Federal Highway Administration

Notice of Final Federal Agency Actions on Proposed Highway in California

AGENCY: Federal Highway Administration (FHWA), DOT.

ACTION: Notice of Limitation on Claims for Judicial Review of Actions by the California Department of Transportation (Caltrans), pursuant to 23 U.S.C. 327.

SUMMARY: The FHWA, on behalf of Caltrans, is issuing this notice to announce actions taken by Caltrans, that are final within the meaning of 23 U.S.C. 139(l)(1). The actions relate to a proposed highway project, replacement of the 5th Street Bridge (No. 18C-0012) over the Feather River and improvement of approach roadways to the bridge, in the Counties of Sutter and Yuba, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before February 17, 2015. If the Federal law that authorizes judicial review of a claim provides a time period of less than 150 days for filing such claim, then that shorter time period still applies.

FOR FURTHER INFORMATION CONTACT: For Caltrans: Sue Bauer, Branch Chief, Caltrans Office of Environmental Management, M-1, California Department of Transportation, 703 B Street, Marysville, CA 95901.

Office Hours: 8:00 a.m.-5:00 p.m., Pacific Standard Time.

Telephone: (530) 741-4113.

Email: sue_bauer@dot.ca.gov.

SUPPLEMENTARY INFORMATION: Effective July 1, 2007, the Federal Highway Administration (FHWA) assigned, and the California Department of Transportation (Caltrans) assumed, environmental responsibilities for this project pursuant to 23 U.S.C. 327. Notice is hereby given that Caltrans has taken final agency actions subject to 23 U.S.C. 139(l)(1) by issuing licenses, permits, and approvals for the following highway project in the State of California.

The City of Yuba City, in cooperation with the California Department of Transportation, proposes to replace the 5th Street Bridge (No. 18C-0012) over the Feather River and improve approach roadways to the bridge. The existing facility is located in Sutter and Yuba Counties and connects Bridge Street in Yuba City to 5th Street in Marysville. Project limits in the City of Marysville span from 5th and I Street to I and 3rd Street in the south, portions of Riverfront Park in the west and continuing over the Feather River into the City of Yuba City limits. Project limits within the City of Yuba City include the roadway along 2nd Street, small portions of Sutter, Yolo and Boyd Streets in the south and the western expanse of Bridge Street at the intersection with 2nd Street terminating just east of the intersection of Shasta Street. The bridge replacement is proposed to remedy two major problems. The existing bridge is rated as “functionally obsolete” by Caltrans under Federal Highway Administration (FHWA) prescribed inspection criteria. Additionally, widening the facility from the existing two lanes to a four-lane structure would provide needed traffic operations and capacity improvements to the transportation network between Yuba City and Marysville. The Federal ID number for the bridge replacement project is BHLS 5163 (025).

The actions by the Federal agencies, and the laws under which such actions were taken, are described in the Final Environmental Assessment (FEA)/Finding of No Significant Impact (FONSI) for the project, approved on August 27, 2014, and in other documents in the FHWA project records. The FEA, FONSI and other project records are available by contacting Caltrans at the addresses provided above. The Caltrans FEA, FONSI and other project records can be viewed and downloaded from the project Web site at http://www.yubacity.net/city-services/public-works/5th-street-bridge-replacement-project/environmental-documents-.html.

This notice applies to all Federal agency decisions as of the issuance date of this notice and all laws under which such actions were taken, including, but not limited to:

1. National Environmental Policy Act (NEPA) [42 U.S.C. 4321-4351]; Federal-Aid Highway Act [23 U.S.C. 109 and 23 U.S.C. 128]

2. Section 7 of the Endangered Species Act of 1973 (ESA) [16 U.S.C. 1531-1544 and Section 1536]

3. National Historic Preservation Act of 1966, as amended (16 U.S.C. 470(f) et seq.)

4. Clean Air Act [42 U.S.C. 7401-7671 (q)]

5. Clean Water Act [Section 404, Section 401, Section 319]

6. Section 4(f) of the Department of Transportation Act of 1966 [49 U.S.C. 303]

7. Section 6(f)—Land and Water Conservation Fund [LWCF] Act of 1964 as amended [16 U.S.C. 4601-4604]

8. Uniform Relocation Assistance and Real Property Acquisition Act of 1970, as amended

9. Migratory Bird Treaty Act (MBTA) of 1918, as amended

10. Invasive Species, Executive Order 13112

11. Floodplain Management, Executive Order 12898

(Catalog of Federal Domestic Assistance Program Number 20.205, Highway Planning and Construction. The regulations implementing Executive Order 12372 regarding intergovernmental consultation on Federal programs and activities apply to this program.)

Authority: 23 U.S.C. 139(l)(1)

Issued on: September 11, 2014.
Cesar E. Perez,
Sr. Transportation Engineer, Federal Highway Administration, Sacramento, California.

[FR Doc. 2014-22140 Filed 9-16-14; 8:45 am]

BILLING CODE 4910-RY-P